DEPARTMENT OF EDUCATION

National Advisory Committee on Institutional Quality and Integrity (NACIQI) Meeting

AGENCY: National Advisory Committee on Institutional Quality and Integrity, Office of Postsecondary Education, Department of Education.

What is the purpose of this notice?

The purpose of this notice is two-fold. It is to:

(1) Announce the public meeting of the NACIQI to be held Tuesday-Thursday, September 14-16, 2010, in Washington, D.C., at the U.S. Department of Education, which is predicated on the appointment of members prior to that date; and

(2) Invite written comments concerning the recognition of any agency published in this notice.

This notice presents the proposed meeting agenda and informs the public of its opportunity to attend this meeting. The notice of this meeting is required under section 10(a)(2) of the Federal Advisory Committee Act, section 114(d)(1)(B) of the Higher Education Opportunity Act, and section 114(d)(1)(B) and (D) of the Higher Education Act, as amended.

In all instances, written comments about agencies seeking initial recognition, continued recognition, and/or an expansion of an agency's scope of recognition must relate to the Criteria for Recognition found at section 496 of the Higher Education Act of 1965, as amended, and 34 CFR parts 602 and 603. In addition, comments for any agency whose interim report/compliance report is proposed for review must relate to the issues raised within the letter that requested the report.

When and where will the meeting take place?

Depending on when the appointment of members is made to the NACIQI, the public meeting will be held on Tuesday-Thursday, September 14-16, 2010, from 8:30 a.m. until approximately 5:00 p.m., at the U.S. Department of Education, Eighth Floor Conference Center, 1990 K Street, NW., Washington, DC.

What assistance will be provided to individuals with disabilities?

The meeting site is accessible to individuals with disabilities. If you will need an auxiliary aid or service to participate in the meeting (e.g., interpreting service, assistive listening device, or materials in an alternate format), contact Melissa Lewis at melissa.lewis@ed.gov at least four weeks before the scheduled meeting date. Although we will attempt to meet a request received after that date, we may not be able to make available the requested auxiliary aid or service because of insufficient time to arrange it.

What is the role of the NACIQI?

The NACIQI is established under Section 114 of the Higher Education Act (HEA), as amended, 20 U.S.C. 1011c. Congress created NACIQI to assess the process of accreditation and the institutional eligibility and certification of institutions of higher education under Title IV of the HEA.

What are the functions of the NACIQI?

The NACIQI advises the Secretary of Education about:

• The establishment and enforcement of the Criteria for Recognition of accrediting agencies or associations under Subpart 2 of Part H of Title IV, HEA.

• The recognition of specific accrediting agencies or associations.

• The preparation and publication of the list of nationally recognized accrediting agencies and associations.

• The eligibility and certification process for institutions of higher education under Title IV, HEA.

• The relationship between: (1) Accreditation of institutions of higher education and the certification and eligibility of such institutions, and (2) State licensing responsibilities with respect to such institutions.

• Any other advisory functions relating to accreditation and institutional eligibility that the Secretary may prescribe.

What items are on the proposed agenda for discussion at the meeting?

Proposed agenda topics include the review of nationally recognized accrediting agencies and State approval agencies for nurse education that have submitted petitions for renewal of recognition and/or an expansion of an agency's scope of recognition, or a compliance report, formerly an interim report.

What agencies does the department propose NACIQI will review at the meeting?

The Secretary of Education recognizes accrediting agencies and State approval agencies for nurse education if the Secretary determines that they meet the Criteria for Recognition. Recognition means that the Secretary considers the agency to be a reliable authority as to the quality of education offered by institutions or programs it accredits that are encompassed within the scope of recognition he grants to the agency. As part of the recognition process, agencies are sometimes asked to submit a compliance report. A compliance report, formerly an interim report, means a written report that the Department requires an agency to file to demonstrate that the agency has addressed deficiencies specified in a decision letter from the senior Department official or the Secretary, per 34 CFR 602.3. There may also be other reports due that were previously requested by the NACIQI prior to August 14, 2008, when the Higher Education Opportunity Act was enacted.

The following agencies are proposed to be reviewed during the September 14-16, 2010 NACIQI meeting:

Nationally Recognized Accrediting Agencies

Compliance Reports

1. Association of Advanced Rabbinical and Talmudic Schools, Accreditation Commission.

2. Commission on Accreditation of Healthcare Management Education.

3. Council on Accreditation of Nurse Anesthesia Educational Program.

4. Council on Education for Public Health.

5. Northwest Commission on Colleges and Universities (progress report).

6. The Higher Learning Commission of the North Central Association of Colleges and Schools.

Petition for Initial Recognition

1.AdvancED.

Petitions for Renewal of Recognition

1. American Academy for Liberal Education.

2. American Board of Funeral Service Education.

3. American Speech Language Hearing Association, Council on Academic Accreditation in Audiology and Speech-Language Pathology.

4. Commission on Massage Therapy Accreditation.

5. Council on Naturopathic Medical Education.

6. Midwifery Education Accreditation Council.

7. Montessori Accreditation Council for Teacher Education, Commission on Accreditation.

8. National Accrediting Commission of Cosmetology Arts and Sciences.

9. New England Association of Schools and Colleges, Commission on Technical and Career Institutions.

10. Western Association of Schools and Colleges Accrediting Commission for Schools.

Request for an Expansion of Scope and Name Change

1. North Central Association Commission on Accreditation and School Improvement, Board of Trustees.

State Agencies Recognized for the Approval of Nurse Education

Compliance Report

1. Missouri State Board of Nursing.

Petition for Renewal of Recognition 1.

1. Montana State Board of Nursing.

When, where, and how should I submit my written comments?

Submit your written comments by e-mail no later than May 23, 2010, to the Accreditation and State Liaison (ASL) Records Manager at aslrecordsmanager@ed.gov with the subject line listed “Written Comments re: (agency name).” In all instances, your comments about agencies seeking continued recognition and/or an expansion of an agency's scope of recognition must relate to the Criteria for Recognition.

Do Not Send Material Directly to NACIQI Members

Only materials submitted by the deadline to the e-mail address listed in this notice, and in accordance with these instructions, become part of the official record and are considered by the Department and the NACIQI in their deliberations.

Will this be my only opportunity to submit written comments regarding agencies listed in this notice that are proposed to be reviewed by NACIQI at the meeting?

Yes. This notice announces the only opportunity you will have to submit written comments on those agencies for this meeting. However, a subsequent Federal Register notice will publish another meeting notice and invite individuals and groups to submit requests to make oral presentations before the NACIQI on the agencies proposed for review. That notice, however, does not offer a second opportunity to submit written comments. If other agencies are added to the agenda when it is finalized, an additional notice will be published soliciting written comment on those agencies.

What happens to the written comments that I submit?

Any third-party written comments regarding an agency received by May 23, 2010, in accordance with this Federal Register notice, will become part of the official record. Those comments will be considered by the Department in its review of the agency's submission and by the NACIQI when it the agency's submission at the September 2010 meeting.

Where can I inspect petitions and third-party comments before the meeting and the meeting records?

The redacted versions of all materials submitted by agencies and any third-party comments received in advance of the meeting will be available for public inspection and copying, concurrently with their availability to the NACIQI, which we anticipate will be in mid-to-late July. The materials will be available at the U.S. Department of Education, Office of Postsecondary Education, Room 7126, 1990 K Street, NW., Washington, DC 20006, telephone 202 219-7011, from 9:00 a.m. to 4:00 p.m., Monday through Friday, except Federal holidays; and at the National Library of Education, 400 Maryland Avenue, SW., Plaza Level (Level B), Washington, DC 20202, from 9:00 a.m. to 5:00 p.m., Monday through Friday, except Federal holidays. It is preferred that an appointment be made in advance of an inspection.

What happens to comments received after the deadline?

Department staff will review any comments received after the deadline. If such comments, upon investigation, reveal that the agency is not acting in accordance with the Criteria for Recognition, we will take action either before or after the meeting, as appropriate. Documents responsive to this notice but received after May 23, 2010, will not be distributed to the NACIQI for its consideration. Individuals making oral presentations may not distribute written materials at the meeting.

How do I request to make an oral presentation?

On or before August 14, 2010, the Department of Education will publish another notice of the meeting in the Federal Register and will invite interested parties, including those who submitted third-party written comments concerning agencies' compliance with the criteria for Recognition, to make oral presentations before the NACIQI.

How do I request to present comments regarding general issues rather than specific accrediting agencies?

Also, in the same Federal Register notice inviting oral comments concerning the agencies' compliance with the Criteria for Recognition, the public will be invited to make general comments pertaining to the functions of the NACIQI.

How may I obtain access to the records of the meeting?

We will record the meeting, and the meeting transcript will be available for public inspection on the NACIQI Web site: http://www.ed.gov/about/bdscomm/list/naciqi.html, for up until approximately a year after the meeting.

How may I obtain electronic access to this document?

You may view this document, as well as all other Department of Education documents published in the Federal Register, in text or Adobe Portable Document Format (PDF), on the Internet at the following site: http://www.ed.gov/legislation/FedRegister. To use PDF, you must have Adobe Acrobat Reader, which is available free at this site. If you have questions about using PDF, call the U.S. Government Printing Office (GPO), toll free, at 1-888-293-6498; or, in the Washington, DC, area at (202) 512-1530.

Note: The official version of this document is the document published in the Federal Register. Free Internet access to the official edition of the Federal Register and the Code of Federal Regulations is available on GPO Access at: http://www.gpoaccess.gov/index.html.

Delegation of Authority: The Secretary of Education has delegated authority to Daniel T. Madzelan, Director, Forecasting and Policy Analysis for the Office of Postsecondary Education, to perform the functions and duties of the Assistant Secretary for Postsecondary Education.

Authority: 5 U.S.C. Appendix 2.

Dated: April 20, 2010.
Daniel T. Madzelan,
Director, Forecasting and Policy Analysis.

[FR Doc. 2010-9516 Filed 4-22-10; 8:45 am]

BILLING CODE 4000-01-P